INTERNATIONAL TRADE COMMISSION

[Investigation No. 731-TA-1047 (Review)]

Ironing Tables and Certain Parts Thereof From China

AGENCY: United States International Trade Commission.

ACTION: Revised schedule for the subject review.

DATES: Effective Date: April 5, 2010.

FOR FURTHER INFORMATION CONTACT: Jennifer Merrill (202-205-3188), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this review may be viewed on the Commission's electronic docket (EDIS) at http://edis.usitc.gov.

SUPPLEMENTARY INFORMATION: On November 16, 2009, the Commission established a schedule for the conduct of the five-year review of the subject antidumping duty order (74 FR 62593, November 30, 2009). As stated in that schedule, the Commission will hold a hearing in connection with the review on April 13, 2010. However, because of a scheduling conflict, the hearing will begin at 11 a.m.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: April 5, 2010.
Marilyn R. Abbott,
Secretary to the Commission.

[FR Doc. 2010-8043 Filed 4-8-10; 8:45 am]

BILLING CODE 7020-02-P